DEPARTMENT OF JUSTICE

Notice of Lodging of Consent Decree Under the Comprehensive Environmental Response, Compensation, and Liability Act

Notice is hereby given that on January 24, 2011, a proposed Consent Decree (“Decree”) in United States v. The United Illuminating Company and The Fitchburg Gas and Electric Light Company, Civil Action No. 11-cv-121, was lodged with the United States District Court for the District of Connecticut.

The Decree resolves claims of the United States against The United Illuminating Company (“United Illuminating”) and The Fitchburg Gas and Electric Light Company (“FG&E”) under the Comprehensive Environmental Response, Compensation and Liability Act of 1980, 42 U.S.C. 9601-9675, for recovery of costs incurred by the United States Environmental Protection Agency (“EPA”) related to the East Main Street Disposal Area Site in New Haven County, Connecticut (“Site”). The Decree requires United Illuminating and FG&E to pay $464,000 to the United States in reimbursement of costs incurred by EPA at the Site.

The Department of Justice will receive for a period of thirty (30) days from the date of this publication comments relating to the Decree. Comments should be addressed to the Assistant Attorney General, Environmental and Natural Resources Division, and either e-mailed to pubcomment-ees.enrd@usdoj.gov or mailed to P.O. Box 7611, U.S. Department of Justice, Washington, DC 20044-7611, and should refer to United States v. The United Illuminating Company and The Fitchburg Gas and Electric Light Company, Civil Action No. 11-cv-121 (D.Conn.) D.J. Ref. 90-11-3-09917.

The Decree may be examined at the Office of the United States Attorney, District of Connecticut, New Haven Office, 157 Church Street, Floor 23, New Haven, Connecticut 06510, and at U.S. EPA Region I, U.S. Environmental Protection Agency, 5 Post Office Square, Suite 100, Boston, Massachusetts 02109. During the public comment period, the Decree may also be examined on the following Department of Justice Web site http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $23.25 (25 cents per page reproduction cost) payable to the U.S. Treasury or, if by e-mail or fax, forward a check in that amount to the Consent Decree Library at the stated address.

Maureen Katz,
Assistant Chief, Environmental Enforcement Section, Environment and Natural Resources Division.

[FR Doc. 2011-2180 Filed 1-31-11; 8:45 am]

BILLING CODE 4410-15-P